DEPARTMENT OF AGRICULTURE

Forest Service

Beaverhead-Deerlodge National Forest; Montana; Supplemental EIS for the Beaverhead-Deerlodge National Forest Land and Resource Management Plan To Comply With District of Montana Court Order

AGENCY: Forest Service, USDA.

ACTION: Notice of intent to prepare an environmental impact statement.

SUMMARY: The Beaverhead-Deerlodge National Forest will prepare a Supplemental Environmental Impact Statement (SEIS) to the 2009 Beaverhead-Deerlodge National Forest Revised Land and Resource Management Plan (Forest Plan) environmental analysis in response to a June 14, 2016 Order from the U.S. District Court for the District of Montana. The Court directed the Forest Service to issue a supplemental EIS for the 2009 Revised Forest Plan that evaluates the potential environmental consequences of the 2002 and the 2008 MOUs. The MOUs were entered into by and between Grazing Permittees, the Bureau of Land Management, Montana Fish, Wildlife and Parks and the Beaverhead-Deerlodge National Forest as part of Montana Fish, Wildlife and Parks' proposal to reintroduce bighorn sheep into the Greenhorn Mountain Range. The 2002 MOU was replaced by the 2008 MOU.

DATES: Under 40 CFR 1502.9(c)(4), there is no formal scoping period for this proposed action. The Draft SEIS is expected to be published in October, 2016, which will then begin, in accordance with 36 CFR 219.16(a)(2), a 90-day public comment period on the Draft SEIS.

FOR FURTHER INFORMATION CONTACT: Jan Bowey, Beaverhead-Deerlodge National Forest, 420 Barrett Street, Dillon, MT 59725 (406) 683-3900.

Individuals who use telecommunication devices for the deaf (TDD) may call the Federal Information Relay Service (FIRS) at 1-800-877-8339 between 8 a.m. and 8 p.m., Eastern Time, Monday through Friday.

Dated: July 27, 2016.
Melany Glossa,
Forest Supervisor.

[FR Doc. 2016-18366 Filed 8-2-16; 8:45 am]

BILLING CODE 3410-11-P